DEPARTMENT OF TRANSPORTATION

Office of the Secretary

Aviation Proceedings, Agreements Filed During the Week Ending December 21, 2001

The following Agreements were filed with the Department of Transportation under the provisions of 49 U.S.C. sections 412 and 414. Answers may be filed within 21 days after the filing of the application.

Docket Number: OST-2001-11182.

Date Filed: December 17, 2001.

Parties: Members of the International Air Transport Association.

Subject:

PTC23 EUR-SEA 0129 dated 14 December 2001, Mail Vote 186—Resolution 010r.

TC23/TC123 Europe-South East Asia Special Passenger, Amending Resolution 010r r1.

PTC23 EUR-SEA 0130 dated 14 December 2001, Mail Vote 187—Resolution 002 r2-r26.

TC23/TC123 Europe-South East Asia Standard, Revalidation Resolution.

Report—PTC23 EUR-SEA 0128 dated 7 December 2001, TC23/TC123 Europe-South East Asia Policy Group Report.

Tables—PTC23 EUR-SEA Fares 0035, dated 14 December 2001, Intended effective date: 15 March 2002 and 1 April 2002.

Docket Number: OST-2001-11183.

Date Filed: December 17, 2001.

Parties: Members of the International Air Transport Association.

Subject:

PTC23 ME-TC3 0133 dated 18 December 2001, Mail Vote 189—Resolution 010t.

TC23/TC123 Middle East-TC3 Special Passenger, Amending Resolution, Intended effective date: 1 April 2002.

Docket Number: OST-2001-11186.

Date Filed: December 17, 2001.

Parties: Members of the International Air Transport Association.

Subject:

IATA telexes TE537/TE542/TE549, dated 7/10/14 December 2001, Mail Vote 188—Resolution 010.

TC23/TC123 Europe-Japan/Korea, Middle East-TC3, Africa-TC3 and TC123 North/Mid/South Atlantic, Special Passenger Amending Resolution from Japan, Intended effective date: 1 April 2002.

Docket Number: OST-2001-11203.

Date Filed: December 19, 2001.

Parties: Members of the International Air Transport Association.

Subject:

TC31 North and Central Pacific and TC31 Circle Pacific, PTC31 N&C/CIRC 0184 dated 16 November 2001 r1-r2, PTC31 N&C/CIRC 0185 dated 16 November 2001 r1-r2, PTC31 N&C/CIRC 0186 dated 16 November 2001 r10-r31, PTC31 N&C/CIRC 0187 dated 16 November 2001 r32-r46, PTC31 N&C/CIRC 0192 dated 7 December 2001.

(Technical Correction), Minutes—PTC31 N&C/CIRC 0193, dated 21 December 2001.

Tables—PTC31 N&C/CIRC Fares 0088, dated 7 December 2001.

PTC31 N&C/CIRC Fares 0089 dated 7 December 2001, PTC31 N&C/CIRC Fares 0090 dated 7 December 2001, Intended effective date: 1 April 2002.

Docket Number: OST-2001-11221.

Date Filed: December 20, 2001.

Parties: Members of the International Air Transport Association.

Subject:

TC31 North and Central Pacific, between Malaysia and USA.

PTC31 N&C/CIRC 0189, dated 16 November 2001, between Malaysia and USA r1-r13.

Minutes—PTC31 N&C/CIRC 0194, dated 21 December 2001.

Tables—PTC12 N&C/CIRC Fares 0092, dated 7 December 2001.

Intended effective date: 1 April 2002.

Docket Number: OST-2001-11222.

Date Filed: December 20, 2001.

Parties: Members of the International Air Transport Association.

Subject:

TC31 North and Central Pacific—TC3-Central America, South America.

PTC31 N&C/CIRC 0188 dated 16 November 2001.

TC3-Central America, South America Resolution r1-r18, Tables—PTC31 N&C/CIRC Fares 0091, dated 7 December 2001.

Intended effective date: 1 April 2002.

Dorothy Y. Beard,
Federal Register Liaison.

[FR Doc. 02-1155 Filed 1-15-02; 8:45 am]

BILLING CODE 4910-62-P